DEPARTMENT OF COMMERCE

National Oceanic and Atmospheric Administration

50 CFR Part 635

[Docket No. 010326079-1079-01; I.D. 010301C]

RIN 0648-AO96

Atlantic Highly Migratory Species (HMS); 2001 Atlantic Bluefin Tuna Quota Specifications and General Category Effort Controls

AGENCY: National Marine Fisheries Service (NMFS), National Oceanic and Atmospheric Administration (NOAA), Commerce.

ACTION: Proposed initial annual quota specifications and General category effort controls; public hearings; request for comments.

SUMMARY: NMFS proposes initial specifications for the Atlantic bluefin tuna (BFT) fishery to set BFT quota and General category effort controls for the 2001 fishing year. The proposed initial quota specifications and effort controls are necessary to implement the 1998 recommendation of the International Commission for the Conservation of Atlantic Tunas (ICCAT) as required by the Atlantic Tunas Convention Act (ATCA) and to achieve domestic management objectives under the Magnuson-Stevens Fishery Conservation and Management Act (Magnuson-Stevens Act). NMFS will hold public hearings to receive comments from fishery participants and other members of the public regarding the proposed initial quota specifications and effort controls.

DATES: Written comments must be received on or before May 14, 2001.

The public hearings dates are:

1. Wednesday, April 11, 2001, 7 p.m. to 9 p.m., Gloucester, MA 01930.

2. Tuesday, April 17, 2001, 7 p.m. to 9 p.m., Hyannis, MA 02601.

3. Friday, April 20, 2001, 7 p.m. to 9 p.m. Brunswick, ME 04011.

4. Friday, April 27, 2001, 7 p.m. to 9 p.m. Riverhead, NY 11901.

ADDRESSES: Written comments on the proposed initial quota specifications and General category effort controls should be sent to Chris Rogers, Acting Chief, Highly Migratory Species Management Division, Office of Sustainable Fisheries (F/SF1), NMFS, 1315 East-West Highway, Silver Spring, MD 20910-3282. Comments also may be sent via facsimile (fax) to (301) 713-1917. Comments will not be accepted if submitted via e-mail or the Internet.

The public hearing locations are:

1. Gloucester--Milton Fuller School, 4 School House Road, Gloucester, MA 01930.

2. Hyannis--Sheraton Hyannis Four Points, Route 132, Hyannis, MA 02601.

3. Brunswick--The Atrium, 21 Gurnet Road, Cooks Corner, Brunswick, ME 04011

4. Riverhead--Riverhead Town Hall, 2000 Howell Ave, Riverhead, NY 11901

FOR FURTHER INFORMATION CONTACT: Brad McHale or Pat Scida, (978) 281-9260.

SUPPLEMENTARY INFORMATION: Atlantic tunas are managed under the dual authority of the Magnuson-Stevens Act and ATCA. ATCA authorizes the Secretary of Commerce (Secretary) to implement binding recommendations of ICCAT. The authority to issue regulations under the Magnuson-Stevens Act and ATCA has been delegated from the Secretary to the Assistant Administrator for Fisheries, NOAA (AA).

Background

On May 28, 1999, NMFS published in the Federal Register (64 FR 29090) final regulations, effective July 1, 1999, implementing the Fishery Management Plan for Atlantic Tunas, Swordfish, and Sharks (HMS FMP) that was adopted and made available to the public in April 1999. The proposed initial specifications are necessary to implement the 1998 ICCAT recommendation, which is required by ATCA, and to achieve domestic management objectives under the Magnuson-Stevens Act. The proposed initial quota specifications would allocate the total ICCAT-recommended quota (including the allocation of the unused portion of the dead discard allowance) among the several established fishing categories, would carry-over any unharvested quota in 2000 from a specific category to the same category for 2001, and would be consistent with the BFT rebuilding program as set forth in the HMS FMP.

NMFS proposes the 2001 fishing year (June 1, 2001 to May 31, 2001) BFT initial quota specifications under the annual and inseason adjustment procedures of the HMS FMP. Also in accordance with the HMS FMP, NMFS proposes the General category effort control schedule, including time-period subquotas and restricted fishing days (RFDs), for the upcoming fishing season. After consideration of public comment, NMFS will issue final initial specifications and publish them in the Federal Register.

Domestic Quota Allocation

The HMS FMP and the implementing regulations established baseline percentage quota shares for each of the domestic fishing categories of the ICCAT-recommended U.S. BFT quota. These percentage shares were based on allocation procedures that had been developed by NMFS over several years. The baseline percentage quota shares established in the HMS FMP for fishing years beginning June 1, 2001 are as follows: General category--47.1 percent; Harpoon category--3.9 percent; Purse Seine category --18.6 percent; Angling category--19.7 percent; Longline category--8.1 percent; Trap category--0.1 percent; and Reserve--2.5 percent.

The current ICCAT BFT quota recommendation allows, and U.S. regulations require, the addition or subtraction, as appropriate, of any underharvest or overharvest in a fishing year to the appropriate quota category for the following year, provided that such carryover does not result in overharvest of the total annual quota and is consistent with all applicable ICCAT recommendations, including restrictions on landings of school BFT. Therefore, NMFS proposes to adjust the 2001 fishing year quota specifications for the BFT fishery to account for underharvest and overharvest in the 2000 fishing year.

The General, Harpoon, and Purse Seine category fisheries for BFT have been closed for the 2000 fishing year (June 1, 2000 to May 31, 2001), but landings figures are still preliminary and may be updated before the 2001 specifications are finalized. For the 2000 fishing year, NMFS has preliminarily determined that General category landings were less then the adjusted General category quota by 9.7 mt; Harpoon category landings were less then the adjusted Harpoon category quota by 0.6 mt; and Purse Seine category landings exceeded the adjusted Purse Seine category quota by 4.0 mt. Based on the estimated amount of Reserve that NMFS is maintaining for the landing of BFT taken during ongoing scientific research projects, NMFS estimates that 9.4 mt of Reserve remains unharvested from the 2000 fishing year.

Given estimated catch rates and available quota, the Angling and Longline category fisheries will remain open through May 31, 2001. As NMFS anticipates publication of final BFT quota specifications for the 2001 fishing year prior to the availability of final 2000 landings figures for these two categories, best estimates will be used to determine carryover amounts, if any. To date, the Angling category has the following underharvests for the 2000 fishing year: School BFT--118.4 mt; large school/small medium BFT--130.1 mt; and large medium/giant BFT--4.8 mt. In addition, 38.3 mt remains in the school reserve. To date, 100.6 mt remain in the Longline category. Should adjustments to the proposed initial 2001 BFT quota specifications be required based on the final 2000 BFT landings figures, NMFS will publish a Federal Register document adjusting the final initial 2001 fishing year quota specifications.

In accordance with the regulations regarding annual adjustments at § 635.27(a)(9)(ii), NMFS proposes specifications for the 2001 fishing year that include carryover adjustments. The proposed quotas are: General category--667.0 mt; Harpoon category--55.0 mt; Purse Seine category--255.6 mt; Angling category--566.4 mt; Longline category--213.6 mt; and Trap category--3.9 mt. Additionally, 44.3 mt would be reserved for inseason allocations or to cover potential overharvest in any category except the Purse Seine category. Regulations at 50 CFR 635.27(a)(9)(i) require that Purse Seine category vessels add or subtract under or overharvests to or from each individual vessel’s quota allocation, as appropriate.

As part of the BFT rebuilding program, ICCAT recommended an allowance for dead discards. The U.S. dead discard allowance is 68 metric tons (mt). The 1999 fishing year preliminary estimate of U.S. dead discards, as reported in pelagic longline vessel logbooks, totaled 51 mt (data provided by the Southeast Fisheries Science Center). As estimates of BFT dead discards for the 2000 fishing year will not be available for some time, the estimate for the 1999 fishing year was used to calculate the amount to be added to, or subtracted from, the U.S. BFT landings quota for 2001 as a result of dead discards. Estimates of dead discards from other gear types and fishing sectors that do not use the pelagic longline vessel logbook are unavailable at this time and thus are not included in this calculation. As U.S. fishing activity is estimated to have resulted in less dead discards than its allowance, the ICCAT recommendation and U.S. regulations state that the U.S. may add one-half of the difference between the amount of dead discards and the allowance (i.e., 68 mt - 51 mt = 17 mt, 17 mt/2 = 8.5 mt) to its total allowed landings for the following year, or to individual fishing categories or to the Reserve. NMFS proposes to allocate the 8.5 mt to the total allowed landings quota, which would then be allocated to the individual fishing categories based on the baseline percentage quota allocations established in the HMS FMP.

Based on the proposed initial specifications, the Angling category quota of 566.4 mt would be divided as follows: School BFT--247.7 mt, with 134.3 mt to the northern area (north of 38° 47′ N. lat.), 113.4 mt to the southern area (south of 38° 47′ N. lat.), and an additional 20.6 mt held in reserve; large school/small medium BFT--286.9 mt, with 171.1 mt to the northern area and 115.8 mt to the southern area; and large medium/giant BFT--11.2 mt, with 4.9 mt to the northern area and 6.3 mt to the southern area. NMFS issued a proposed rule (65 FR 76601; December 7, 2000) that would adjust the location of the north-south dividing line to 39o 18′ N. latitude and change the percentage quota allocations in the northern and southern areas. Should a final rule be issued to implement these changes they will be incorporated into the final initial specifications.

The Longline category quota of 213.6 mt would be subdivided as follows: 27.0 mt to longline vessels landing BFT north of 34° N. lat. and 186.6 mt to longline vessels landing BFT south of 34° N. lat.

General Category Effort Controls

For the last several years, NMFS has implemented General category time-period subquotas to increase the likelihood that fishing would continue throughout the late summer and early fall fishing seasons. The subquotas are consistent with the objectives of the HMS FMP and are designed to address concerns regarding allocation of fishing opportunities, to assist with distribution and achievement of optimum yield, to allow for a late season fishery, and to improve market conditions and scientific monitoring.

The HMS FMP divides the annual General category quota into three time-period subquotas as follows: 60 percent for June-August, 30 percent for September, and 10 percent for October-December. These percentages would be applied to the adjusted 2001 coastwide quota for the General category of 657.0 mt, with the remaining 10.0 mt being reserved for the New York Bight fishery. Therefore, coastwide, 394.2 mt would be available in the period beginning June 1 and ending August 31; 197.1 mt would be available in the period beginning September 1 and ending September 30; and 65.7 mt would be available in the period beginning October 1 and ending December 31, 2001.

In addition to time period subquotas, NMFS also has implemented General category RFDs to extend the fishing season throughout the summer and fall. The RFDs are consistent with the objectives of the HMS FMP and are designed to address the same issues addressed by time-period subquotas. For the 2001 fishing year, NMFS proposes a schedule of RFDs that is similar to that implemented for the 2000 fishing year, adjusted as necessary to coordinate with Japanese market holidays.

Persons aboard vessels permitted in the General category would be prohibited from fishing, including tag-and-release, for BFT of all sizes on the following days: July 15, 16, 18, 22, 23, 25, 29, and 30; August 1, 5, 6, 8, 11, 12, 13, 15, 19, 20, 22, 26, 27, and 29; September 2, 3, 5, 9, 10, 12, 16, 17, 19, 23, 24, 26, and 30; October 1, 3, 7, 8, 10, 14, and 15. These proposed RFDs would improve distribution of fishing opportunities without increasing BFT mortality.

Request for Comments

Over the past year industry has expressed interest and concern over the allocation of BFT quota underharvest and the implementation of RFDs. NMFS specifically invites comments on the following subjects: (a) BFT quota carry-over provisions and the allocation of BFT quota carry-over for successive years; and (b) alternative methods of implementing effort controls, including procedures for waiving or adding RFDs during the fishing season.

Comments submitted in response to this notice will be considered in the development of the final initial quota specifications and effort controls, and will also become a matter of public record.

Public Hearings and Special Accommodations

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

The public hearing sites are physically accessible to people with disabilities. Requests for sign language interpretation or other auxiliary aids should be directed to Brad McHale (see FOR FURTHER INFORMATION CONTACT) at least 7 days prior to the hearing.

Classification

These proposed specifications and effort controls are published under the authority of the Magnuson-Stevens Act, 16 U.S.C. 1801 et seq., and the Atlantic Tunas Convention Act, 16 U.S.C. 971 et seq. Preliminarily, the AA has determined that the proposed specifications and the effort controls are consistent with the HMS FMP, the Magnuson-Stevens Act, and the 1998 ICCAT BFT catch recommendation.

The Chief Counsel for Regulation of the Department of Commerce has certified to the Chief Counsel for Advocacy of the Small Business Administration that the proposed specifications and effort controls would not have a significant economic impact on a substantial number of small entities as follows:

The proposed initial specifications would set Atlantic BFT tuna quota allocations and General category effort controls for the 2001 fishing year; these proposed initial specifications are similar to those set for the 2000 fishing year and are in accordance with the Fishery Management Plan for Atlantic Tunas, Swordfish, and Sharks (Highly Migratory Species (HMS) FMP). Because the overall U.S. BFT landings quota and fishing patterns would remain the same, there is no anticipated change in revenues that would accrue to, or costs that would be incurred by, small businesses or in the fishery overall.

Because of this certification, an Initial Regulatory Flexibility Analysis was not prepared.

These proposed quota specifications and General category effort controls have been determined to be not significant for purposes of Executive Order 12866.

Taken together, the proposed quota specifications and General category effort controls are not expected to increase endangered species or marine mammal interaction rates. On September 7, 2000, NMFS re-initiated formal consultation for the HMS fisheries under section 7 of the Endangered Species Act. The proposed specifications would not significantly alter current fishing practices and would not likely increase takes of listed species or result in any irreversible and irretrievable commitment of resources that would have the effect of foreclosing the formulation or implementation of any reasonable and prudent alternative measures to reduce adverse impacts on protected resources.

The area in which this proposed action is planned has been identified as EFH for species managed by the New England Fishery Management Council, the Mid-Atlantic Fishery Management Council, the South Atlantic Fishery Management Council, the Gulf of Mexico Fishery Management Council, the Caribbean Fishery Management Council, and the Highly Migratory Species Division of the Office of Sustainable fisheries at NMFS. It is not anticipated that this action will have any adverse impacts to EFH and, therefore, no consultation is required.

Dated: March 28, 2001.
Clarence Pautzke,
Acting Assistant Administrator for Fisheries, National Marine Fisheries Service.

[FR Doc. 01-8032 Filed 3-28-01; 3:17 pm]

BILLING CODE 3510-22-S